DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent applications.

Method for the Direct Detection and Quantitation of Asparagine Synthetase in Biological Samples

Description of Technology: Acute lymphoblastic leukemia (ALL) is a fast-growing cancer that targets immature cells of the blood and bone marrow. Clinical treatments of ALL use enzyme-based methods, such as L-asparaginase (ASNase), for depletion of cellular asparagine in combination with standard chemotherapeutic agents. Although ASNase can be used to treat both childhood and adult forms of ALL, its use is limited because patients can often develop resistance to ASNase therapy. Studies have shown a correlation between ASNase resistance and increased expression levels of asparaginase synthetase (ASNS) enzyme, which catalyzes the biosynthesis of cellular L-asparagine from L-aspartate in an ATP-dependent reaction. At present, measurement of ASNS expression levels are based on mRNA or antibody based assays; however, these methods are not suitable for direct quantitation of protein in biological samples. Thus, new and improved methods that directly measure ASNS protein levels are needed.

Researchers at the NCI have developed novel methods for quantitating ASNS protein in biological samples using isotope-labeled standard peptides and mass spectrometry. The current technology describes methods of identifying a patient with cancer or chemoresistant cancer, monitoring the treatment regimen of a patient with cancer, as well as methods for detecting modulators and their ability to affect ASNS expression levels. Further described are novel pharmaceutical compositions with potential use as chemotherapeutic agents.

Applications: Diagnostic assay for leukemia or chemoresistant cancer; Use in screening or identifying potential chemotherapeutic agents; Use in measuring a patient's sensitivity to ASNase therapy.

Market: Approximately 5,200 people are diagnosed with ALL each year in the United States; ALL is the most common type of cancer in children in developed countries.

Development Status: Early stage.

Inventors: Thomas P. Conrads (NCI/SAIC) et al.

Patent Status: International Application No. PCT/US06/28965 filed 25 Jul 2006 (HHS Reference No. E-189-2006/0-PCT-01).

Licensing Status: Available for exclusive and non-exclusive licensing.

Licensing Contact: Robert M. Joynes, J.D., M.S.; 301-594-6565; joynesr@mail.nih.gov.

Total Emission Detection System for Multi-Photon Microscopy

Description of Technology: Available for licensing and commercial development is a novel two-photon microscope system, which would allow improved fluorescent light collection, the use of less excitation power and deeper penetration of tissue and isolated cells. Multi-photon fluorescence microscopy (MPFM) is an imaging technique that can investigate biological processes to sub-cellular resolution at depths of hundreds of microns below the surface of biological tissues. MPFM provides higher resolution imaging of tissues than confocal imaging, but is currently limited by the use of inefficient light collection systems, which lead to detection of only a fraction of the light that is emitted from the sample. The new system consists of an array of mirrors, lenses, and reflecting surfaces designed to collectively maximize the probability of collecting all emitted fluorescent light to a detector, thereby providing enhanced brightness of light detected from the sample and an increase in signal-to-noise ratio (SNR). This increase in SNR can be used to improve time resolution, reduce laser power requirements and reduce photodynamic damage.

Applications: Three-dimensional imaging of biological tissues and cells; Three-dimensional imaging of semiconductor integrated circuits.

Market: Optical Imaging.

Development Status: Late-stage technology.

Inventors: Christian A. Combs, Robert S. Balaban, Jay R. Knutson (NHLBI).

Patent Status: U.S. Provisional Application No. 60/835,462 filed 04 Aug 2006 (HHS Reference No. E-257-2005/0-US-01).

Licensing Status: Available for exclusive or non-exclusive licensing.

Licensing Contact: Chekesha S. Clingman, Ph.D.; 301-435-5018; clingmac@mail.nih.gov

Collaborative Research Opportunity: The NHLBI Light Microscopy Core Facility is seeking statements of capability or interest from parties interested in collaborative research to further develop, evaluate, or commercialize a total emission detection system for multi-photon imaging. Please contact Lili Portilla, Director of the NHLBI Office of Technology Transfer and Development at 301-402-5579 or via e-mail at LILIP@nih.gov for more information.

Dated: June 19, 2007.
Steven M. Ferguson,
Director, Division of Technology Development and Transfer, Office of Technology Transfer, National Institutes of Health.

[FR Doc. E7-12335 Filed 6-25-07; 8:45 am]

BILLING CODE 4140-01-P